DEPARTMENT OF ENERGY

Federal Energy Regulatory Commission

Combined Notice of Filings #1

Take notice that the Commission received the following electric rate filings:

Docket Numbers: ER13-1188-033.

Applicants: Pacific Gas and Electric Company.

Description: Compliance filing per 35: Compliance Filing for WDT Partial Settlement to be effective 8/1/2014.

Filed Date: 9/23/14.

Accession Number: 20140923-5001.

Comments Due: 5 p.m. ET 10/14/14.

Docket Numbers: ER13-1188-034.

Applicants: Pacific Gas and Electric Company.

Description: Compliance filing per 35: Compliance Filing for WDT2 Partial Settlement to be effective 8/1/2014.

Filed Date: 9/23/14.

Accession Number: 20140923-5002.

Comments Due: 5 p.m. ET 10/14/14.

Docket Numbers: ER13-1188-035.

Applicants: Pacific Gas and Electric Company.

Description: Compliance filing per 35: Compliance Filing for WDT2 Offer of Partial Settlement to be effective 8/1/2014.

Filed Date: 9/23/14.

Accession Number: 20140923-5004.

Comments Due: 5 p.m. ET 10/14/14.

Docket Numbers: ER13-1188-036.

Applicants: Pacific Gas and Electric Company.

Description: Compliance filing per 35: Errata to WDT2 Compliance Filing WDT SA No. 17 to be effective 8/1/2014.

Filed Date: 9/23/14.

Accession Number: 20140923-5010.

Comments Due: 5 p.m. ET 10/14/14.

Docket Numbers: ER14-2707-001.

Applicants: Mammoth Plains Wind Project, LLC.

Description: Tariff Amendment per 35.17(b): Mammoth Plains Wind Project, LLC Amendment to MBR Application and Tariff to be effective 9/19/2014.

Filed Date: 9/22/14.

Accession Number: 20140922-5107.

Comments Due: 5 p.m. ET 10/14/14.

Docket Numbers: ER14-2708-001.

Applicants: Seiling Wind, LLC.

Description: Tariff Amendment per 35.17(b): Seiling Wind, LLC Amendment to MBR Application and Tariff to be effective 10/1/2014.

Filed Date: 9/22/14.

Accession Number: 20140922-5108.

Comments Due: 5 p.m. ET 10/14/14.

Docket Numbers: ER14-2709-001.

Applicants: Seiling Wind II, LLC.

Description: Tariff Amendment per 35.17(b): Seiling Wind II, LLC Amendment to MBR Application and Tariff to be effective 10/1/2014.

Filed Date: 9/22/14.

Accession Number: 20140922-5109.

Comments Due: 5 p.m. ET 10/14/14.

Docket Numbers: ER14-2710-001.

Applicants: Palo Duro Wind Energy, LLC.

Description: Tariff Amendment per 35.17(b): Amendment to Palo Duro Wind Energy, LLC MBR Application and Tariff to be effective 10/7/2014.

Filed Date: 9/22/14.

Accession Number: 20140922-5111.

Comments Due: 5 p.m. ET 10/14/14.

Docket Numbers: ER14-2925-000.

Applicants: Pacific Gas and Electric Company.

Description: Compliance filing per 35: Compliance Filing for WDT2 Offer of Partial Settlement to be effective 8/1/2014.

Filed Date: 9/23/14.

Accession Number: 20140923-5003.

Comments Due: 5 p.m. ET 10/14/14.

Take notice that the Commission received the following electric reliability filings:

Docket Numbers: RR14-8-000.

Applicants: North American Electric Reliability Corporation.

Description: Petition of the North American Electric Reliability Corporation for Approval of the Bylaws and Reliability Standards Development Procedures of the Western Electricity Coordinating Council.

Filed Date: 9/16/14.

Accession Number: 20140916-5060.

Comments Due: 5 p.m. ET 10/16/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 23, 2014.
Nathaniel J. Davis, Sr.,
Deputy Secretary.

[FR Doc. 2014-23242 Filed 9-29-14; 8:45 am]

BILLING CODE 6717-01-P